DEPARTMENT OF DEFENSE

Department of the Navy

Notice of Availability of Record of Decision for the Fallon Range Training Complex Modernization Environmental Impact Statement

AGENCY: Department of the Navy, DoD.

ACTION: Notice.

SUMMARY: The United States (U.S.) Department of the Navy (Navy), after carefully weighing the strategic, operational, and environmental consequences of the Proposed Action, announces its decision to select Alternative 3 (Preferred Alternative) from the Fallon Range Training Complex (FRTC) Final Environmental Impact Statement (EIS) Environmental), dated January 2020. This alternative will support the Navy's request for a legislative proposal in the National Defense Authorization Act for Fiscal Year 2021 for Congressional action and Presidential approval for renewal of the current federal land withdrawal and withdrawal of additional federal land to expand the range. It also includes the acquisition of non-federal land. While making this decision, the Navy carefully weighed its strategic and operational needs; potential impacts on the human, natural, and cultural environment; and comments from government officials and agencies, tribal governments, and the public on the proposal and environmental analysis. The Navy selected Alternative 3 because it best meets the purpose of and need for modernization while minimizing impacts on public access and land use. The Navy will implement management practices, monitoring, and mitigation measures to reduce potential impacts of the FRTC modernization.

SUPPLEMENTARY INFORMATION: With the implementation of the modernization, the FRTC significantly enhances the aviation and ground training for a wide range of mission capabilities into the foreseeable future. Modernization of the FRTC will allow the use of precision guided weapons to their required capabilities by Navy aviators, and use of the full complement of weapons by Sea Air and Land (SEAL) teams, protects the capabilities of the aviation electronic warfare range, and modifies existing special use airspace (SUA) to accommodate the additional training capabilities created by modernizing the range complex. In this regard, the Navy's selected alternative, Alternative 3 (Preferred Alternative), fulfills the Navy's execution of its congressionally mandated roles and responsibilities under 10 U.S.C. Section 8062 and 10 U.S.C. Section 167. The complete text of the Record of Decision (ROD) for the FRTC Modernization Final EIS is available on the project website at www.FRTCModernization.com, along with the January 2020 FRTC Modernization Final EIS and supporting documents. Single copies of the ROD are available upon request by contacting: Naval Facilities Engineering Command Southwest, Attention: Code EV21.LD, 1220 Pacific Highway, Building 1, 5th Floor, San Diego, CA 92132.

Dated: March 12, 2020.
D.J. Antenucci,
Commander, Judge Advocate General's Corps, U.S. Navy, Federal Register Liaison Officer.

[FR Doc. 2020-05573 Filed 3-17-20; 8:45 am]

BILLING CODE 3810-FF-P